DEPARTMENT OF THE INTERIOR

National Park Service

[NPS-AKR-GAAR-0328-7059; 9924-PYS]

National Park Service Alaska Region's Subsistence Resource Commission (SRC) Program

AGENCY: National Park Service, Interior.

ACTION: Notice of public meeting for the National Park Service Alaska Region's Subsistence Resource Commission (SRC) program.

SUMMARY: The Gates of the Arctic National Park SRC will meet to develop and continue work on National Park Service (NPS) subsistence hunting program recommendations and other related subsistence management issues. The NPS SRC program is authorized under Title VIII, Section 808 of the Alaska National Interest Lands Conservation Act, Public Law 96-487, to operate in accordance with the provisions of the Federal Advisory Committee Act.

Public Availability of Comments: This meeting is open to the public and will have time allocated for public testimony. The public is welcome to present written or oral comments to the SRC. This meeting will be recorded and meeting minutes will be available upon request from the park superintendent for public inspection approximately six weeks after each meeting. Before including your address, telephone number, e-mail address, or other personal identifying information in your comment, you should be aware that your entire comment—including your personal identifying information—may be made publicly available at any time. While you can ask us in your comment to withhold your personal identifying information from public review, we cannot guarantee that we will be able to do so.

Gates of the Arctic National Park SRC Meeting Date and Location: The Gates of the Arctic National Park SRC will meet at the Shungnak Public School, 907-437-2151, in Shungnak, Alaska on Wednesday, May 11, 2011 and Thursday, May 12, 2011, from 9 a.m. to 5 p.m. If the meeting dates and location are changed, a notice will be published in local newspapers and announced on local radio stations prior to the meeting date. SRC meeting location and dates may need to be changed based on lack of quorum, inclement weather or local circumstances.

For Further Information on the Gates of the Arctic National Park SRC Meeting Contact: Greg Dudgeon, Superintendent, and Dave Krupa, Subsistence Manager, (907) 457-5752, Gates of the Arctic National Park and Preserve, 4175 Geist Road, Fairbanks, Alaska 99709, or Clarence Summers, Subsistence Manager, NPS Alaska Regional Office, at (907) 644-3603.

Proposed SRC Meeting Agenda

The proposed meeting agenda includes the following:

1. Call to order

2. SRC Roll Call and Confirmation of Quorum

3. Welcome and Introductions

4. Approval of Minutes

5. Administrative Announcements

6. Approve Agenda

7. Review SRC Purpose

8. SRC Member Reports

9. Public and Other Agency Comments

10. Federal Subsistence Board Update

11. Alaska Board of Game Update

12. Old Business

13. New Business

a. Subsistence Manager Report

b. Ranger Report

c. Resource Management Program Update

13. Subsistence Uses of Horns, Antlers, Bones and Plants EA Update

14. Public and other Agency Comments

15. SRC Work Session

16. Set Time and Place for next SRC Meeting

17. Adjournment

Sue E. Masica,
Regional Director, Alaska.

[FR Doc. 2011-9179 Filed 4-14-11; 8:45 am]

BILLING CODE 4310-HK-P